DEPARTMENT OF ENERGY

Electric Grid Integration Technical Workshops

AGENCY: Grid Tech Team, U.S. Department of Energy.

ACTION: Notice of availability; request for comments.

SUMMARY: Notice is hereby given that two documents are publicly available and the Department of Energy is requesting public comments. The documents are the Electricity Distribution System Workshop Discussion Summary and the Electricity Transmission System Workshop Discussion Summary.

DATES: Written comments are to be received at the addresses listed below no later than March 25, 2013.

ADDRESSES: Interested persons are encouraged to submit comments by any of the following methods:

Online comments can be submitted via an online format available through the following Web site (click the corresponding meeting link under the GTT Workshops header): www.energy.gov/doegridtechteam.

Email comments may also be sent to: gridtechteam@hq.doe.gov.

In the subject line, include [Txm Wkshp] for transmission summary comments, [Dist Wkshp] for distribution summary comments, or [Other] for other general workshop-related comments.

Paper comments can be mailed to:

Attn: Robert S. Anders, Office of Technology Development, Energy Efficiency and Renewable Energy, U.S. Department of Energy, Forrestal Building, Room 6A-067, 1000 Independence Ave. SW., Washington, DC, 20585.

FOR FURTHER INFORMATION CONTACT: Caitlin A. Callaghan, National Electricity Delivery Division, Office of Electricity Delivery and Energy Reliability, U.S. Department of Energy, Forrestal Building, Room 8E-032, 1000 Independence Ave. SW., Washington, DC 20585; Telephone 202-287-6345.

SUPPLEMENTARY INFORMATION: The U.S. Department of Energy (DOE) is in the process of developing a targeted research and development roadmap to address grid challenges that will help guide investments over the next five years. Accordingly, DOE is compiling key reference material and input from a very broad scope of stakeholders from across all sectors of the electricity grid. This process entails convening workshops and leveraging reference material regarding various aspects of the grid—including (but not limited to) smart grid, energy storage, cyber security, advanced computation—and investigating integration issues within the transmission and distribution systems.

Each of the discussion summary documents is the product of separate workshops hosted by the DOE's Grid Tech Team (GTT). Each workshop was posted publicly online and announced through outreach to stakeholders across various sectors of the industry. The intent was to encourage participation by the broadest scope of stakeholders as possible. The Distribution Workshop was held on September 24-26, 2012; the Transmission Workshop took place on November 1-2, 2012. The workshops were held at separate conference facilities in Arlington, Virginia. The discussion summary documents can be found online at: www.energy.gov/doegridtechteam (click on the corresponding link under the GTT Workshops header).

The basic structure of the workshops had all the attendees participate in breakout sessions, whereby smaller groups considered particular topics. The underlying purpose of both workshops was not to build consensus among stakeholders, but rather to gather information based on the individual experiences and expertise of the participants relating to the challenges and opportunities facing the electricity distribution and transmission systems. The GTT took all the information from the breakout sessions and synthesized the common themes into the Discussion Summary documents that are hereby available for review and open for comments.

The discussion summary documents will be valuable additions to the growing body of relevant reference material. Thus, the summaries of these workshop discussions, including consideration of public comments, will provide a key resource to help DOE guide its R&D investments in the near term.

DOE intends to finalize and make publically available these documents with consideration of comments received. Comments are invited on all aspects of the workshop topics, although DOE is primarily seeking answers to the following questions:

i. Are there any issues in the discussion summary documents that require particular consideration? Are there any issues in the discussion summary documents that do not warrant further consideration? Please provide any examples or information that further supports your comment.

ii. Are there crucial challenges or opportunities associated with the Electricity Distribution or Transmission System (or both) that are not sufficiently represented in these documents?

The Department of Energy will review all timely written responses to this notice. DOE intends to finalize and make available the Electricity Distribution and Transmission Workshop Discussion Summary reports.

Issued in Washington, DC on February 14, 2013.
Anjan Bose,
Chairman, Grid Tech Team, U.S. Department of Energy.

[FR Doc. 2013-04066 Filed 2-20-13; 8:45 am]

BILLING CODE 6450-01-P